SECURITIES AND EXCHANGE COMMISSION

Sunshine Act Meetings

TIME AND DATE: Notice is hereby given, pursuant to the provisions of the Government in the Sunshine Act, Public Law 94-409, that the Commission will host the SEC Government-Business Forum on Small Business Capital Formation on Wednesday, August 14, 2019 beginning at 9:00 a.m. (CT).

PLACE: The forum will be held at Creighton University, Hixson-Lied Auditorium in the Mike and Josie Harper Center, 602 North 20th Street, Omaha, NE 68178. The panel discussions will be webcast on the Commission's website at www.sec.gov.

STATUS: This meeting will be open to the public.

MATTERS TO BE CONSIDERED: The forum will include remarks by SEC Commissioners and panel discussions that Commissioners may attend. The panel discussions will explore capital formation in the Silicon Prairie area and the Commission's request for public comment on ways to harmonize private securities offering exemptions. This Sunshine Act notice is being issued because a majority of the Commission may attend the meeting.

CONTACT PERSON FOR MORE INFORMATION: For further information, please contact Vanessa A. Countryman from the Office of the Secretary at (202) 551-5400.

Dated: August 6, 2019.
Vanessa A. Countryman,
Secretary.

[FR Doc. 2019-17120 Filed 8-6-19; 4:15 pm]

BILLING CODE 8011-01-P